DEPARTMENT OF AGRICULTURE

Office of the Secretary

Texas Oak Wilt Suppression Program; Determination of Primary Purpose of Certain Payments for Federal Tax Purposes

AGENCY: Office of the Secretary, USDA.

ACTION: Notice of determination.

SUMMARY: The Secretary of Agriculture has determined that cost-share payments made to individuals under the State of Texas, Forest Service, Oak Wilt Suppression Program, are made primarily for the purpose of protecting and restoring the environment and improving forests. This determination permits recipients to exclude all or part of certain cost-share payments under this program from gross income for Federal income tax purposes to the extent allowed by the Internal Revenue Service.

DATES: The Secretary's determination was signed on May 22, 2003.

ADDRESSES: Questions may be addressed to Dr. Linda Wang, Texas Forest Service, John B. Connally Bldg., 301 Tarrow, Suite 364, College Station, TX 77840-78796. A copy of the determination is available upon request.

FOR FURTHER INFORMATION CONTACT: Dr. Linda Wang, Texas Forest Service, (979) 458-6650.

SUPPLEMENTARY INFORMATION: Section 126 of the Internal Revenue Code (26 U.S.C. 126, as amended) provides that all or part of certain payments made to persons under State programs may be excluded from the receipient's gross income for Federal income tax purposes under two conditions: (1) If the Secretary of Agriculure determines that the payments are made primarily for the purpose of conserving soil and water resources, protecting or restoring the environment, improving forests, or providing habitat for wildlife (the criteria for making such a determination are set forth in 7 CFR part 14, Determining the Primary Purpose of Certain Payments for Federal Tax Purposes), and (2) If the payments are determined by the Secretary of the Treasury as not increasing substantially the annual income derived from the property.

To make such a determination, the Secretary of Agriculture evaluates a cost-share conservation program based on the criteria set forth in 7 CFR part 14. Following a primary purpose determination by the Secretary of Agriculture, the Secretary of the Treasury must determine that payments made under the conservation program do not substantially increase the annual income derived from the property benefited by the payments.

Therefore, having carefully examined the authorizing legislation, regulations, and operating procedures regarding the Texas Oak Wilt Suppression Program, the Secretary of Agriculture, according to the criteria set forth in 7 CFR part 14, has determined that the cost-share payments made for planning and implementation of projects under the Texas Oak Wilt Suppression Program are made primarily for the purpose of conserving soil and water resources, improving forests, and protecting and restoring the environment.

Subject to further determination by the Secretary of the Treasury that payments made under the Texas Oak Wilt Suppression Program do not substantially increase the annual income derived from the property benefited by these payments, this determination by the Secretary of Agriculture permits payment recipients to exclude from gross income for Federal income tax purposes all or part of the cost-share payments made under this program to the extent allowed by the Internal Revenue Service.

Dated: May 22, 2003.
Ann M. Veneman,
Secretary of Agriculture.

[FR Doc. 03-13929 Filed 6-3-03; 8:45 am]

BILLING CODE 3410-11-P